DEPARTMENT OF TRANSPORTATION

Federal Aviation Administration

14 CFR Part 39

[Docket No. FAA-2004-18565; Directorate Identifier 2003-NM-168-AD; Amendment 39-14461; AD 2006-02-09]

RIN 2120-AA64

Airworthiness Directives; Airbus Model A330-200, A330-300, A340-200, and A340-300 Series Airplanes

AGENCY: Federal Aviation Administration (FAA), Department of Transportation (DOT).

ACTION: Final rule.

SUMMARY: The FAA is adopting a new airworthiness directive (AD) for all Airbus Model Airbus Model A330-200, A330-300, A340-200, and A340-300 series airplanes. This AD requires inspecting for damage to certain actuators of the low-pressure shut-off valve (LPSOV), and related investigative and corrective actions if necessary. This AD results from a report of damage to the LPSOV pedestal. We are issuing this AD to ensure that, in the event of an engine fire, the LPSOV actuator functions properly to delay or block the fuel flow to the engine and prevent an uncontrollable fire.

DATES: This AD becomes effective February 28, 2006.

The Director of the Federal Register approved the incorporation by reference of certain publications listed in the AD as of February 28, 2006.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A330, A340-200, and A340-300 series airplanes; and A340-541 and -642 airplanes. That NPRM was published in the Federal Register on July 8, 2004 (69 FR 41211). That NPRM proposed to require inspecting for damage to certain actuators of the low-pressure shut-off valve (LPSOV), and related investigative and corrective actions if necessary.

Comments

We provided the public the opportunity to participate in the development of this AD. We have considered the comments received.

Requests To Limit Applicability

One commenter, on behalf of Airbus, requests that we revise the proposed applicability to match that of the French airworthiness directive, which is limited to airplanes equipped with certain LPSOV part numbers (P/Ns). The commenter adds that Model A330-301 airplanes (among others) receive Airbus Modification 48225/48223 in production, and Model A340-541 and -642 airplanes receive Airbus Modification 48552 in production. These modifications involve installing actuator P/N FRH010041.

We infer that the commenter would like us to remove Model A330-301, A340-541, and A340-642 airplanes from the applicability of the proposed AD. Since we issued the proposed AD, French airworthiness directive F-2003-360 R1, dated May 26, 2004, was issued to limit the applicability to A340-200 and -300 series airplanes. We have revised this final rule accordingly. There has been no corresponding revision to French airworthiness directive F-2003-359 to exclude Model A330-301 airplanes.

Another commenter, a Model A330 operator, also requests that we limit the applicability. The commenter reports the following: This operator's entire A330 fleet was delivered with P/N FRH010041 actuators installed, its first A330 was delivered July 2003, and no P/N HTE190021 or P/N HTE190026 actuators have been purchased. Airbus Service Bulletins A330-28-3083 and A340-28-4098, both dated March 25, 2003, limit their effectivity to airplanes delivered up to May 2003, but the proposed AD would not so limit the applicability. The commenter requests that we revise the applicability of the proposed AD to match that of the service bulletins.

As stated in the preamble to the proposed AD, “the French airworthiness directives specify that Model A330 and A340 series airplanes are affected if they are equipped with LPSOV actuators having certain part numbers.” The Airbus service bulletins, which are mandated by the French airworthiness directives, specify that operators first identify the part numbers of the actuators. This AD therefore applies to all Model A330 and A340 series airplanes and requires part number identification. Because the part is interchangeable, this AD further ensures that affected LPSOVs are not installed in the future, as required by paragraph (g) of this AD. However, we agree to revise paragraph (f) of this final rule to also allow an airplane records review to determine the part number of the actuator.

Request To Allow Additional Service Information

The proposed AD would require operators to inspect certain LPSOV actuators, and would prohibit installation of affected actuators on or after the effective date of the AD. One commenter, on behalf of an operator of Model A330 airplanes, notes that Task 28-00-00-200-80 of the A330 Aircraft Maintenance Manual (AMM), task 28-00-00-200-801, revised July 1, 2004, provides new installation procedures for measuring the dowel in each LPSOV location. According to the commenter, the AMM should provide sufficient instructions to meet the parts installation requirement (paragraph (g) of the proposed AD); however, as written, paragraph (g) would prohibit installing an affected actuator unless it has been measured specifically in accordance with Airbus Service Bulletin A330-28-3083. The commenter requests that we revise paragraph (g) to also consider the AMM task acceptable for measuring the dowel during installation of the actuator. The commenter asserts that this change will also prevent the inadvertent installation of an actuator that had not been measured, since actuators that have been inspected in accordance with Airbus Service Bulletin A330-28-3083 are not so marked or identified. The commenter also requests that we allow actuators previously installed in accordance with the AMM after the revision date that added the new measurement task be given credit for the requirements of paragraph (f) of the proposed AD.

The Accomplishment Instructions in the referenced service bulletins refer to the appropriate AMM sections as additional sources of service information. It is not necessary to cite the specific AMM references in this AD. Furthermore, the service bulletin does not refer to a specific revision level of the AMM. Compliance with any revision of the AMM is acceptable for compliance with the requirements of this AD, as long as the required actions (such as measurement) were done. Paragraph (e) of this AD allows for compliance when the required actions have already been done. We have not changed the final rule regarding these references.

Additional Changes to Proposed AD

Paragraph (f)(1) of the proposed AD stated that no further action would be required for airplanes with LPSOV part number FRH010041. However, the requirements of paragraph (g) remain in effect for all airplanes. We have changed paragraph (f)(1) in this final rule to refer only to the requirements of paragraph (f) for those airplanes.

We have revised the applicability of the proposed AD to identify model designations as published in the most recent type certificate data sheet for the affected models.

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Inspection | 1 | $65 | No parts | $65 | 15 | $975

Currently, there are no U.S.-registered Model A340-200 or -300 series airplanes; however, if any are imported and placed on the U.S. Register in the future, the estimated costs in the above table would apply.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-02-09 Airbus: Amendment 39-14461. Docket No. FAA-2004-18565; Directorate Identifier 2003-NM-168-AD.

Effective Date

(a) This AD becomes effective February 28, 2006.

Affected ADs

(b) None.

Applicability

(c) This AD applies to all Airbus Model A330-201, -202, -203, -223, -243, -301, -321, -322, -323, -341, -342, and -343 airplanes; and Model A340-211, -212, -213, -311, -312, and -313 airplanes; certificated in any category.

Unsafe Condition

(d) This AD results from a report of damage to the pedestal of the low-pressure shut-off valve (LPSOV). We are issuing this AD to ensure that, in the event of an engine fire, the LPSOV actuator functions properly to delay or block the fuel flow to the engine and prevent an uncontrollable fire.

Compliance

(e) You are responsible for having the actions required by this AD performed within the compliance times specified, unless the actions have already been done.

Part Number Identification

(f) At the applicable time specified in Table 1 of this AD, identify the part number (P/N) of the LPSOV actuator. A review of airplane maintenance records is acceptable in lieu of this inspection if the P/N is conclusively determined from that review.

Table 1.—Compliance Times
For model— | Do the actions specified in paragraph (f) of this AD at the earlier of the following times:
A330-201, -202, -203, -223, -243, -301, -321, -322, -323, -341, -342, and -343 airplanes | Within 16,000 flight hours after the effective date of this AD; or Within 53 months after the effective date of this AD.
A340-211, -212, -213, -311, -312, and -313 airplanes | Within 12,000 flight hours after the effective date of this AD; or Within 39 months after the effective date of this AD.

(1) For P/N FRH010041: No further action is required by this paragraph.

(2) For P/N HTE190021 or HTE190026: Before further flight, do a detailed inspection for damage to the LPSOV pedestal, and measure the distance between the face of the mounting flange and the top of the locating pin (dowel). Do the actions in accordance with the Accomplishment Instructions of Airbus Service Bulletin A330-28-3083 or A340-28-4098, both dated March 25, 2003, as applicable. Do all related investigative and corrective actions before further flight in accordance with the service bulletin, as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Airbus Service Bulletins A330-28-3083 and A340-28-4098 refer to FR-HiTEMP Service Bulletin HTE190021-28-2, dated March 17, 2003, as an additional source of service information for measuring the flange-to-pin distance.

Parts Installation

(g) As of the effective date of this AD: No person may install an actuator P/N HTE190021 or HTE190026 on any airplane unless the actuator has been measured, and all applicable related investigative and corrective actions have been done, in accordance with the requirements of paragraph (f)(2) of this AD.

Alternative Methods of Compliance (AMOCs)

(h)(1) The Manager, International Branch, ANM-116, Transport Airplane Directorate, FAA, has the authority to approve AMOCs for this AD, if requested using the procedures found in 14 CFR 39.19.

(2) Before using any AMOC approved in accordance with 14 CFR 39.19 on any airplane to which the AMOC applies, notify the appropriate principal inspector in the FAA Flight Standards Certificate Holding District Office.

Related Information

(i) French airworthiness directives 2003-359(B), dated October 1, 2003, and F-2003-360 R1, dated May 26, 2004, also address the subject of this AD.

Material Incorporated by Reference

(j) You must use Airbus Service Bulletin A330-28-3083, dated March 25, 2003; or Airbus Service Bulletin A340-28-4098, dated March 25, 2003; as applicable, to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on January 9, 2006.
Ali Bahrami,
Manager, Transport Airplane Directorate, Aircraft Certification Service.

[FR Doc. 06-559 Filed 1-23-06; 8:45 am]

BILLING CODE 4910-13-P